DEPARTMENT OF LABOR

Occupational Safety and Health Administration

29 CFR Part 1910, 1915, 1917, 1918, 1926, and 1928

[Docket No. OSHA-2021-0009]

RIN 1218-AD39

Heat Injury and Illness Prevention in Outdoor and Indoor Work Settings

AGENCY: Occupational Safety and Health Administration (OSHA), Labor.

ACTION: Proposed rule; extension of post-hearing comment period.

SUMMARY: OSHA held an informal public hearing on its proposed standard for Heat Injury and Illness Prevention in Outdoor and Indoor Work Settings from June 16 through July 2, 2025. The period to submit post-hearing comments is extended by 30 days until October 30, 2025, to allow individuals and organizations who filed a timely Notice of Intention to Appear (NOITA) at the hearing additional time to file evidence and data relevant to the proceeding, including written responses to questions asked during hearing proceedings, as well as final written briefs.

DATES: The post-hearing comment period that was set by the presiding administrative law judge on July 2, 2025, is extended. Post-hearing comments from individuals and organizations who filed a timely NOITA at the hearing must be submitted by October 30, 2025.

ADDRESSES:

Submission of comments: Individuals and organizations who filed a timely NOITA may submit comments and attachments, identified by Docket No. OSHA-2021-0009, electronically at http://www.regulations.gov, which is the Federal e-Rulemaking Portal. Follow the instructions online for making electronic submissions. The Federal eRulemaking Portal at www.regulations.gov is the only way to submit post-hearing comments.

Instructions: All submissions must include the agency's name and the docket number for this rulemaking (Docket No. OSHA-2021-0009). All comments, including any personal information you provide, are placed in the public docket without change and may be made available online at http://www.regulations.gov. Therefore, OSHA cautions commenters about submitting information they do not want made available to the public, or submitting materials that contain personal information (either about themselves or others), such as Social Security Numbers and birthdates.

Docket: To read or download comments or other material in the docket, go to Docket No. OSHA-2021-0009 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number plus a unique four or five-digit code. OSHA identified supporting information in the NPRM by author name and publication year, when appropriate. This information can be used to search for a supporting document in the docket at www.regulations.gov. Contact the OSHA Docket Office at 202-693-2350 (TTY number: 877-889-5627) for assistance in locating docket submissions.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance; telephone: (202) 693-1950; email: osha.dsg@dol.gov.

SUPPLEMENTARY INFORMATION: On August 30, 2024, OSHA published in the Federal Register a Notice of Proposed Rulemaking (NPRM) for Heat Injury and Illness Prevention in Outdoor and Indoor Work Settings. The proposed standard would apply to all employers conducting outdoor and indoor work in all general industry, construction, maritime, and agriculture sectors where OSHA has jurisdiction. The standard would clarify employer obligations and the steps necessary to effectively protect employees from hazardous heat.

OSHA held an informal public hearing on the proposed standard from June 16 through July 2, 2025. At the close of that hearing, the presiding administrative law judge set the post-hearing comment period for 90 days, until September 30, 2025. The purpose of the post-hearing comment period is to allow individuals and organizations who filed a timely NOITA at the hearing to file evidence and data relevant to the proceeding, including written responses to questions asked during hearing proceedings, as well as final written briefs. On September 9, 2025, counsel for the Coalition for Workplace Safety (CWS) filed a request for a 90-day extension of the post-hearing comment period. Document ID OSHA-2021-0009-25568.

Upon consideration of the request, the chief administrative law judge granted an extension of 30 days of the post-hearing comment period. Document ID OSHA-2021-0009-25570. See 29 CFR 1911.16(g). Accordingly, individuals and organizations who filed a timely NOITA may submit post-hearing comments until October 30, 2025.

Authority and Signature

This document was prepared under the direction of Amanda Laihow, Acting Assistant Secretary of Labor for Occupational Safety and Health, U.S. Department of Labor, 200 Constitution Avenue NW, Washington, DC 20210. It is issued under the authority of sections 4, 6, and 8 of the Occupational Safety and Health Act of 1970 (29 U.S.C. 653, 655, 657); 5 U.S.C. 553; Secretary of Labor's Order No. 7-2025 (90 FR 27878); and 29 CFR part 1911.

Signed at Washington, DC, on September 23, 2025.
Amanda Laihow,
Acting Assistant Secretary of Labor for Occupational Safety and Health.

[FR Doc. 2025-18670 Filed 9-24-25; 8:45 am]

BILLING CODE 4510-26-P